SECURITIES AND EXCHANGE COMMISSION

[Release No. 34-95409; File No. SR-CboeBZX-2021-086]

Self-Regulatory Organizations; Cboe BZX Exchange, Inc.; Notice of Withdrawal of Proposed Rule Change, as Modified by Amendment No. 2, To Amend the Opening Auction Process Provided Under Rule 11.23(b)(2)(B)

August 2, 2022.

On December 21, 2021, Cboe BZX Exchange, Inc. (“BZX” or “Exchange”) filed with the Securities and Exchange Commission (“Commission”), pursuant to Section 19(b)(1) of the Securities Exchange Act of 1934 (“Act”) ¹ and Rule 19b-4 thereunder,² a proposed rule change to amend the Opening Auction process under BZX Rule 11.23(b)(2)(B). The proposed rule change was published for comment in the Federal Register on January 5, 2022.³ On February 14, 2022, pursuant to Section 19(b)(2) of the Act,⁴ the Commission designated a longer period within which to approve the proposed rule change, disapprove the proposed rule change, or institute proceedings to determine whether to disapprove the proposed rule change.⁵ On April 1, 2022, the Exchange filed Amendment No. 2 to the proposed rule change, which amended and superseded the proposed rule change as originally filed.⁶ On April 4, 2022, the Commission noticed the filing of Amendment No. 2 and instituted proceedings under Section 19(b)(2)(B) of the Act ⁷ to determine whether to approve or disapprove the proposed rule change.⁸ On June 29, 2022, the Commission designated a longer period within which to issue an order approving or disapproving the proposed rule change, as modified by Amendment No. 2.⁹

¹ 15 U.S.C. 78s(b)(1).

² 17 CFR 240.19b-4.

³ See Securities Exchange Act Release No. 93888 (December 30, 2021), 87 FR 532.

⁴ 15 U.S.C. 78s(b)(2).

⁵ See Securities Exchange Act Release No. 94238, 87 FR 9399 (February 18, 2022). The Commission designated April 5, 2022, as the date by which the Commission shall approve or disapprove, or institute proceedings to determine whether to disapprove, the proposed rule change.

⁶ On March 31, 2022, the Exchange submitted Amendment No. 1 to the proposed rule change, and on April 1, 2022, the Exchange withdrew Amendment No. 1 to the proposed rule change. Amendment No. 2 is available on the Commission's website at: https://www.sec.gov/comments/sr-cboebzx-2021-086/srcboebzx2021086-20122189-278229.pdf.

⁷ 15 U.S.C. 78s(b)(2)(B).

⁸ See Securities Exchange Act Release No. 94601, 87 FR 20895 (April 8, 2022).

⁹ See Securities Exchange Act Release No. 95175, 87 FR 40294 (July 6, 2022). The Commission designated September 2, 2022, as the date by which the Commission shall either approve or disapprove the proposed rule change.

On July 29, 2022, the Exchange withdrew the proposed rule change (File No. SR-CboeBZX-2021-086).

For the Commission, by the Division of Trading and Markets, pursuant to delegated authority.¹⁰
¹⁰ 17 CFR 200.30-3(a)(12).
J. Matthew DeLesDernier,
Deputy Secretary.

[FR Doc. 2022-16885 Filed 8-5-22; 8:45 am]

BILLING CODE 8011-01-P